DEPARTMENT OF TRANSPORTATION

Office of the Secretary

Aviation Proceedings, Agreements Filed the Week Ending May 11, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28173.

Date Filed: May 8, 2007.

Parties: Members of the International Air Transport Association.

Subject: CAC/35/Meet/007/07 dated, Expedited Resolutions 801r, 809, 809e, 819, 851 & 853 (Minutes relevant to the Resolutions are included in CAC/35/Meet/006/07 dated 1 May 2007).

Intended effective date: 1 July 2007.

Renee V. Wright,
Program Manager, Docket Operations, Federal Register Liaison.

[FR Doc. E7-9827 Filed 5-21-07; 8:45 am]

BILLING CODE 4910-9X-P